DEPARTMENT OF DEFENSE

Office of the Secretary

[Docket ID: DoD-2015-OS-0064]

Privacy Act of 1974; System of Records

AGENCY: Defense Logistics Agency, DoD.

ACTION: Notice to add a new system of records.

SUMMARY: The Defense Logistics Agency proposes to add a new system of records, S240.28 DoD, entitled “Case Adjudication Tracking System (CATS)” for personnel security, suitability, fitness, access management, and National Security that provides a common comprehensive medium to record and document personnel security adjudicative actions within the Department, federal agencies, and for DoD contractors; CATS also provides a status of investigative and adjudicative updates to security officers and security managers, and appropriately screened, investigated, and eligible users with direct access to CATS based on a user's specific functions, security eligibility, and access level; This includes the adjudicators in the DoD Central Adjudications Facility (CAF) and personnel security officers in the services, DoD Components, approved non-DoD agencies, and Industry security offices with an approved DD Form 254, DoD Contract Security Classification Specification. CATS also provides records to the DoD Personnel Security Research Center (PERSEREC) to create models for personnel security continuous evaluation and insider threat assessment, and compile statistical data used for analyses and studies.

DATES: Comments will be accepted on or before August 10, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Officer, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. LaDonne L. White, HQ Privacy Officer, Defense Logistics Agency, Headquarters McNamara Complex 8725 John J. Kingman Rd, Suite 3533, Fort Belvoir, VA 22060-6221 or by calling (703) 767-5045.

SUPPLEMENTARY INFORMATION: The Defense Logistics Agency notices for systems of records subject to the Privacy Act of 1974, as amended, have been published in the Federal Register and are available from the address in FOR FURTHER INFORMATION CONTACT or from the Defense Privacy and Civil Liberties Division Web site at http://dpcld.defense.gov/.

The proposed system report, as required by the Privacy Act of 1974, as amended, was submitted on June 19, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 22, 2015.
Aaron Siegel,
Alternate OSD Federal Register Liaison Officer, Department of Defense.

S240.28 DoD

System name:

Case Adjudication Tracking System (CATS)

System location:

Department of Defense (DoD) Consolidated Adjudications Facility (CAF), 600 10th Street, Ft. Meade, MD 20755-5615.

Categories of individuals covered by the system:

DoD civilian employees, federal contractor personnel, active military personnel, reserve and national guard personnel, whose personnel security, suitability, and eligibility for an HSPD-12 compliant credential are adjudicated by the DoD CAF.

Categories of records in the system:

Information used to view and review adjudicative actions, determinations, and decisions on summary investigation packages and documenting records conducted by Federal investigative organizations (e.g., U.S. Office of Personnel Management (OPM)) and locator references to such investigations. Records documenting fitness determinations, eligibility for an HSPD-12 compliant credential, and the personnel security adjudicated and management process, to include an individual's Social Security Number (SSN); DoD Identification Number (DoD ID Number); name (including current, former, and alternate names); date of birth (DOB); place of birth; country of citizenship; type of DoD affiliation; employing activity; current employment status; position sensitivity; personnel security investigative basis; status of current adjudicative action; security clearance eligibility and access status; whether eligibility determination was based on a condition (personal, medical, or financial), deviation from prescribed investigative standards, or waiver of adjudication guidelines; reports of security-related incidents, to include issue files; suspension of eligibility and/or access; denial or revocation of eligibility and/or access; eligibility recommendations or decisions made by an appellate authority; non-disclosure execution dates; indoctrination date(s); level(s) of access granted; debriefing date(s) and reasons for debriefing; off-site visit requests; foreign travel and contacts; and security reporting, to include results from continuous evaluation and insider threat; and self-reporting.

Authority for maintenance of the system:

E.O. 10450, as amended, Security Requirements for Government Employment; E.O. 10865, as amended, Safeguarding Classified Information Within Industry; E.O. 12829, as amended, National Industrial Security Program; E.O. 12968, as amended, Access to Classified Information; E.O. 13467, Reforming Processes Related to Suitability for Government Employment, Fitness for Contractor Employees and Eligibility for Access to Classified National Security Information; E.O. 13488, Granting Reciprocity on Excepted Service and Federal Contractors Employee Fitness and Reinvestigating Individuals in Positions of Public Trust; E.O. 13478, Amendments to Executive Order 9397 Relating to Federal Agency Use of Social Security Numbers; E.O. 13587, Structural Reforms to Improve the Security of Classified Networks and the Responsible Sharing and Safeguarding of Classified Information; the National Insider Threat Policy and Minimum Standards for Executive Branch Insider Threat Programs; DoD Instruction (DoDI) 1400.25, Volume 731, DoD Civilian Personnel Management System: Suitability and Fitness Adjudication for Civilian Employees; DoDI 5200.02, DoD Personnel Security Program (PSP); DoDI 5220.22, National Industrial Security Program (NISP); DoDD 5205.16, DoD Insider Threat Program; DoD Regulation 5200.2R, DoD Personnel Security Program (PSP); DoD Manual 5105.21, Volume 1, Sensitive Compartmented Information (SCI) Administrative Security Manual: Administration of Information and Information Systems Security; Director of National Intelligence, Intelligence Community Directive Number 704, Personnel Security Standards and Procedures Governing Eligibility for Access to Sensitive Compartmented Information and Other Controlled Access Program Information; Homeland Security Presidential Directive-12 (HSPD-12), Policy for a Common Identification Standard for Federal Employees and Contractors; Office of Personnel Management Memorandum, Final Credentialing Standards for Issuing Personal Identity Verification Cards under HSPD-12; and authorities cited therein.

Purpose(s):

CATS is an information system for personnel security, suitability, fitness, access management, and National Security that provides a common comprehensive medium to record and document personnel security adjudicative actions within the Department, federal agencies, and for DoD contractors. CATS also provides a status of investigative and adjudicative updates to security officers and security managers, and appropriately screened, investigated, and eligible users with direct access to CATS based on a user's specific functions, security eligibility and access level—this includes the adjudicators in the DoD Consolidated Adjudications Facility (CAF), DoD Continuous Evaluation Program Analysts, the DoD Insider Threat Management and Analysis Center analysts, and personnel security officers in the Services, DoD Components, approved non-DoD agencies, and Industry security offices with an approved DD Form 254, DoD Contract Security Classification Specification. CATS also provides records to the DoD Personnel Security Research Center (PERSEREC) to create models for personnel security continuous evaluation and insider threat assessment, and compile statistical data used for analyses and studies.

Routine uses of records maintained in the system, including categories of users and the purposes of such uses:

In addition to those disclosures generally permitted under 5 U.S.C. 552a(b) of the Privacy Act of 1974, as amended, the records contained herein may be disclosed outside the DoD as a routine use pursuant to 5 U.S.C. 552a(b)(3) as follows:

To the Department of Justice when: (a) the agency or any component thereof; or (b) any employee of the agency in his or her official capacity; or (c) any employee of the agency in his or her individual capacity where the Department of Justice has agreed to represent the employee; or (d) the United States Government, is a party to litigation or has interest in such litigation, and by careful review, the agency determines that the records are both relevant and necessary to the litigation and the use of such records by the Department of Justice is therefore deemed by the agency to be for a purpose that is compatible with the purpose for which the agency collected the records.

To a court or adjudicative body in a proceeding when: (a) the agency or any component thereof; or (b) any employee of the agency in his or her official capacity; or (c) any employee of the agency in his or her individual capacity where the Department of Justice has agreed to represent the employee; or (d) the United States Government is a party to litigation or has interest in such litigation, and by careful review, the agency determines that the records are both relevant and necessary to the litigation and the use of such records is therefore deemed by the agency to be for a purpose that is compatible with the purpose for which the agency collected the records.

Except as noted in Sections 23 and 27 {of SF 86}, when a record on its face or in conjunction with other records indicates a violation or potential violation of law, whether civil, criminal, or regulatory in nature, and whether arising by general statute, particular program statute, regulation, rule, or order issued pursuant thereto, the relevant records may be disclosed to the appropriate Federal, foreign, State, local, tribal, or other public authority responsible for enforcing, investigating, or prosecuting such violation or charged with enforcing or implementing the statute, role, regulation, or order.

To any source or potential source from which information is requested in the course of an investigation concerning the hiring or retention of an employee or other personnel action, or the issuing or retention of a security clearance, contract, grant, license, or other benefit, to the extent necessary to identify the individual, inform the source of the nature and purpose of the investigation, and to identify the type of information requested.

To a Federal, State, local, foreign, tribal, or other public authority the fact that this system of records contains information relevant to the retention of an employee, or the retention of a security clearance, contract, license, grant, or other benefit. The other agency or licensing organization may then make a request supported by written consent of the individual for the entire record if it so chooses. No disclosure will be made unless the information has been determined to be sufficiently reliable to support a referral to another office within the agency or to another Federal agency for criminal, civil, administrative personnel, or regulatory action.

To contractors, grantees, experts, consultants, or volunteers when necessary to perform a function or service related to this record for which they have been engaged. Such recipients shall be required to comply with the Privacy Act of 1974, as amended.

To the news media or the general public, factual information the disclosure of which would be in the public interest and which would not constitute an unwarranted invasion of personal privacy.

To a Federal, State, or local agency, or other appropriate entities or individuals, or through established liaison channels to selected foreign governments, in order to enable an intelligence agency to carry out its responsibilities under the national Security Act of 1947 as amended, the CIA Act of 1949 as amended, Executive Order 12333 or an successor order, applicable national security directives, or classified implementing procedures approved by the Attorney General and promulgated pursuant to such statutes, orders, or directives.

To a Member of Congress or to a Congressional staff member in response to an inquiry of the Congressional office made at the written request of the constituent about whom the record is maintained.

To the National Archives and Records Administration for records management inspections conducted under 44 U.S.C. 2904 and 2906.

To the Office of Management and Budget when necessary for the review of private relief legislation.

Policies and practices for storing, retrieving, accessing, retaining, and disposing of records in the system:

Storage:

Paper records and electronic storage media.

Retrievability:

Information is retrieved by SSN and/or DOD ID number. When a user does an SCI search, the system requires a DOB and place of birth in addition to SSN and/or DoD ID Number to complete the lookup as an additional security mechanism.

Safeguards:

Records are stored on a secure military installation and in a building with 24-hour controlled access. Access to offices requires swipe access with Common Access Card and PIN. Records are maintained under the direct control of office personnel in the CAF during duty hours. Office is locked at all times and alarmed when unoccupied. Access to all records is role based and access to electronic records requires use of Common Access Card and PIN.

Retention and disposal:

Disposition pending, treat records as permanent until the National Archives and Records Administration have approved the retention and disposition schedule.

System manager(s) and address:

Director, DLA Information Operations (J6) and Chief Information Officer, 8725 John J. Kingman Road, Fort Belvoir, VA 22060-6221.

Notification procedure:

Individuals seeking to determine whether information about themselves is contained in this system should address written inquiries to Privacy Access Requests, DoD Consolidated Adjudications Facility, 600 10th Street, Ft. Meade, MD 20755-5615.

Requesters should provide full name and any former names used, date and place of birth, and SSN and/or DoD ID Number.

Record access procedures:

Individuals seeking access to information about themselves contained in this system of records should address written inquiries to Privacy Access Requests, DoD Consolidated Adjudications Facility, 600 10th Street, Ft. Meade, MD 20755-5615.

A request for information must contain the full name and any former names used, date and place of birth, SSN and/or DoD ID Number, and address where the records are to be returned.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Attorneys or other persons acting on behalf of an individual must provide written authorization from that individual for their representative to act on their behalf.

Contesting record procedures:

DoD rules for accessing records, for contesting contents and appealing adverse adjudication determinations are contained in DoD 5200.2-R, “DoD Personnel Security Program” (January 1987), or may be obtained from the DoD Consolidated Adjudications Facility, Privacy Act Requests, 600 10th Street, Ft. Meade, MD 20755-5615.

Record source categories:

Information is received from individuals, their attorneys, and other authorized representatives; investigative reports from Federal investigative agencies; personnel security records and correspondence; medical and personnel records, reports, and evaluations; correspondence from employing agencies; and from the following systems: Defense Enrollment Eligibility Reporting System; Defense Civilian Personnel Data System; Electronic Military Personnel Record System-Program; Marine Corps Total Forces System; Total Army Personnel Database (Active, Reserve and Guard); Operational Data Store Enterprise; Navy Accessions Security Information System; Bureau of Naval Personnel; Military Personnel Data System; Air Force Recruiting Information Support System (Active and Reserve); Office of Personnel Management (Federal Investigative Services); Manpower Programming and Execution System (MPES); Joint Access Data System; Special Access Program Personnel Adjudication Database Enterprise.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with the requirements of 5 U.S.C. 553(b)(1), (2), and (3), (c) and (e) and published in 32 CFR part 323. For additional information, contact the system manager.

[FR Doc. 2015-16576 Filed 7-8-15; 8:45 am]

BILLING CODE 5001-06-P